DEPARTMENT OF THE INTERIOR

National Park Service

[NPS-WASO-D-COS-POL-24502; PPWODIREP0; PPMPSPD1Y.YM0000]

National Park System Advisory Board; Charter Renewal

AGENCY: National Park Service, Interior.

ACTION: Charter renewal.

SUMMARY: The Secretary of the Interior intends to renew the National Park System Advisory Board, in accordance with section 14(b) of the Federal Advisory Committee Act. This action is necessary and in the public interest in connection with the performance of statutory duties imposed upon the Department of the Interior and the National Park Service.

FOR FURTHER INFORMATION CONTACT: Shirley Sears, Office of Policy, National Park Service, 202-354-3955.

SUPPLEMENTARY INFORMATION: The Board is authorized by 54 U.S.C. 102303 (part of the 1935 Historic Sites, Buildings and Antiquities Act) and has been in existence almost continuously since 1935. Pursuant to 54 U.S.C. 102303, the legislative authorization for the Board expired January 1, 2010. However, due to the importance of the issues on which the Board advises, the Secretary of the Interior exercised the authority contained in 54 U.S.C. 100906 to re-establish and continue the Board as a discretionary committee from January 1, 2010, until such time as it may be legislatively reauthorized. If the Board is reauthorized legislatively within 2 years of the date of the renewal charter, the Board will revert to a legislative Board.

The advice and recommendations provided by the Board and its subcommittees fulfill an important need within the Department of the Interior and the National Park Service, and it is necessary to re-establish the Board to ensure its work is not disrupted. The Board's 12 members will be balanced to represent a cross-section of disciplines and expertise relevant to the National Park Service mission. The renewal of the Board comports with the requirements of the Federal Advisory Committee Act, as amended.

Certification: I hereby certify that the renewal of the National Park System Advisory Board is necessary and in the public interest in connection with the performance of duties imposed on the Department of the Interior by the National Park Service Organic Act (54 U.S.C. 100101(a) et seq.), and other statutes relating to the administration of the National Park Service.

Dated: January 4, 2018.
Ryan K. Zinke,
Secretary of the Interior.

[FR Doc. 2018-00633 Filed 1-16-18; 8:45 am]

BILLING CODE 4312-52-P